DEPARTMENT OF COMMERCE

Economic Development Administration

Agency Information Collection Activities; Submission to the Office of Management and Budget (OMB) for Review and Approval; Comment Request; Application Materials for EDA Investment Assistance

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on May 27, 2021, during a 60-day comment period. This notice allows for an additional 30 days for public comments.

Agency: Economic Development Administration (EDA), Commerce.

Title: Application Materials for EDA Investment Assistance.

OMB Control Number: 0610-0094.

Form Number(s): ED-900, ED-900B, ED-900C, ED-900D, ED-900E, ED-900F.

Type of Request: Revision and extension of a currently approved information collection.

Number of Respondents: For construction projects, 977 estimated respondents, and for non-construction projects, 1,663 estimated respondents, for a total of 2,640 estimated respondents.

Average Hours per Response: For construction projects, 43.0 estimated hours per response, and for non-construction projects, 17.1 estimated hours per response.

Burden Hours: For construction projects, 42,011 estimated annual burden hours, and for non-construction projects, 28,437 estimated annual burden hours, for a total of 70,448 estimated total annual burden hours.

Application type | Estimated number of responses | Average time estimate | Total hours
Full Application Submission for Construction Applicants | 977 | 43.0 | 42,011
Full Application Submission All Other EDA Programs | 1,663 | 17.1 | 28,437
Total | 2,640 |  | 70,448

Needs and Uses: EDA must collect specific information from applicants for EDA investment assistance to evaluate whether proposed projects satisfy eligibility and programmatic requirements contained in EDA's authorizing legislation, the Public Works and Economic Development Act of 1965, as amended (42 U.S.C. 3121 et seq.); EDA regulations at 13 CFR Chapter III; and applicable Notices of Funding Opportunity.

EDA proposes to revise and extend the following forms under this information collection: Forms ED-900 (General Application for EDA Programs), ED-900B (Beneficiary Information Form), ED-900C (EDA Application Supplement for Construction Programs), ED-900D (Requirements for Design and Engineering Assistance), ED-900E (Calculation of Estimated Relocation and Land Acquisition Expenses), and ED-900F (Additional EDA Assurances for Revolving Loan Fund Investments).

EDA does not propose to extend two existing forms under this information collection: Forms ED-900A (Additional EDA Assurances for Construction Or Non-Construction Investments and ED-900P (Proposal for EDA Assistance). Form ED-900A is no longer necessary because the assurances collected in Form ED-900A are redundant with other materials, including other forms under this information collection and certifications collected by SAM.gov. Form ED-900P is no longer necessary because EDA has removed the requirement for a financial assistance applicant to submit a proposal prior to submitting a full application. By eliminating Forms ED-900A and ED-900P, EDA will reduce the estimated time per response to this information collection.

Affected Public: Entities eligible for EDA financial assistance, including Federal, State, and local governments; Indian tribes; institutions of higher education; not-for-profit entities; and business or other for-profit organizations.

Frequency: During application for EDA investment assistance.

Respondent's Obligation: Mandatory.

Legal Authority: The Public Works and Economic Development Act of 1965 (42 U.S.C. 3121 et seq).

This information collection request may be viewed at reginfo.gov. Follow the instructions to view Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0610-0094.

Sheleen Dumas,
Department PRA Clearance Officer, Office of the Chief Information Officer, Commerce Department.

[FR Doc. 2021-17320 Filed 8-12-21; 8:45 am]

BILLING CODE 3510-34-P